DEPARTMENT OF DEFENSE

Department of the Air Force

[Docket ID USAF-2011-0015]

Privacy Act of 1974; System of Records

AGENCY: Department of the Air Force, DoD.

ACTION: Notice to Alter a System of Records.

SUMMARY: The Department of the Air Force is proposing to alter a system of records notice in its existing inventory of records systems subject to the Privacy Act of 1974, (5 U.S.C. 552a), as altered.

DATES: The proposed action will be effective on June 20, 2011 unless comments are received that would result in a contrary determination.

ADDRESSES: You may submit comments, identified by docket number and/Regulatory Information Number (RIN) and title, by any of the following methods:

* Federal Rulemaking Portal: http://www.regulations.gov. Follow the instructions for submitting comments.

* Mail: Federal Docket Management System Office, 1160 Defense Pentagon, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Mr. Charles J. Shedrick, Department of the Air Force Privacy Office, Air Force Privacy Act Office, Office of Warfighting Integration and Chief Information officer, Attn: SAF/A6PPF, 1800 Air Force Pentagon, Washington DC 20330-1800, or call 703-696-6488.

SUPPLEMENTARY INFORMATION: The Department of the Air Force systems of records notices subject to the Privacy Act of 1974, (5 U.S.C. 552a), as amended, have been published in the Federal Register and are available from the FOR FURTHER INFORMATION CONTACT address. The proposed systems reports, as required by 5 United States Code 552a(r) of the Privacy Act of 1974, were submitted on May 13, 2011 to the House Committee on Oversight and Government Reform, the Senate Committee on Homeland Security and Governmental Affairs, and the Office of Management and Budget pursuant to paragraph 4c of Appendix I to Office of Management and Budget Circular No. A-130, “Federal Agency Responsibilities for Maintaining Records About Individuals,” dated February 8, 1996, (February 20, 1996, 61 FR 6427).

Dated: May 15, 2011.
Aaron Siegel,
Alternate OSD Federal Register Liaison Officer, Department of Defense.

F033 AF A

System Name:

Information requests—Freedom of Information Act (April 7, 2003, 68 FR 16787)

* * * * *

Categories of Individuals covered by the system:

Delete entry and replace with “All persons who have requested records from the Air Force under the provisions of the Freedom of Information Act (FOIA); all persons whose requests for records have been referred to the Air Force by other Federal agencies; and all persons who have submitted appeals to the Secretary of the Air Force under the provisions of the FOIA.”

Categories of records in the system:

Delete entry and replace with “Name, home address, telephone number, e-mail address, FOIA case numbers assigned to individual cases, and appeals, FOIA requests and appeals, responses to requests, determinations of appeals, correspondence with requesters and with other persons who have contacted the Air Force in connection with requests or appeals other than requesters or other correspondence in connection with requests or appeals.”

* * * * *

Storage:

Delete entry and replace with “Maintained in hard copy file folders and/or on electronic storage media.”

Retrievability:

Delete entry and replace with “Retrieved by name or by unique FOIA case number assigned to each request or appeal.”

* * * * *

Retention and disposal:

Delete entry and replace with “Records relating to requests that resulted in a full release of responsive records are retained in Requester Service Center files for two years following response to the requester.

Records that resulted in a full or partial denial (including “no records” responses) are retained in Requester Service Center files for six years following response to the requester.

Records for which an appeal is filed are retained in the Requester Service Center and in General Litigation Division office files for six years following determination of the appeal.

Records for which litigation is instituted are retained in accordance with the disposition instructions for the litigation concerned.

Paper records are disposed of by shredding, pulping, macerating, or burning. Computer records are destroyed by deleting, erasing, degaussing, or by overwriting.”

System manager(s) and address:

Delete entry and replace with “FOIA managers at Air Force installations, bases, units, organizations, and offices. Official mailing addresses are published as an appendix to the Air Force's compilation of record systems notices. The Judge Advocate General, Headquarters United States Air Force, 1420 Air Force Pentagon, Washington, DC 20330-1420.”

Notification procedure:

Delete entry and replace with “Individuals seeking to determine whether information about themselves is contained in this system should address written inquiries to the appropriate FOIA office. Official mailing addresses are published as an appendix to the Air Force's compilation of record systems notices.

For verification purposes, individual should provide their full name, and any detail which may assist in locating records, and their signature.

In addition, the requester must provide a notarized statement or an unsworn declaration made in accordance with 28 U.S.C. 1746, in the following format:

If executed outside the United States:

‘I declare (or certify, verify, or state) under penalty of perjury under the laws of the United State of America that the foregoing is true and correct. Executed on (date). (Signature)’.

If executed within the United States, its territories, possessions, or commonwealths: ‘I declare (or certify, verify, or state) under penalty of perjury that the foregoing is true and correct. Executed on (date). (Signature)’.”

Record access procedures:

Delete entry and replace with “Individuals seeking access to information about themselves contained in this system should address requests to the General Litigation Division, Air Force Legal Operations Agency, 1501 Wilson Boulevard, 7th Floor, Arlington, VA 22209-2403.

For verification purposes, individual should provide their full name, and any details which may assist in locating records, and their signature.

In addition, the requester must provide a notarized statement or an unsworn declaration made in accordance with 28 U.S.C. 1746, in the following format:

If executed outside the United States:

‘I declare (or certify, verify, or state) under penalty of perjury under the laws of the United States of America that the foregoing is true and correct. Executed on (date). (Signature)’.”

If executed within the United States, its territories, possessions, or commonwealths: ‘I declare (or certify, verify, or state) under penalty of perjury that the foregoing is true and correct. Executed on (date). (Signature)’.”

Contesting record procedures:

Delete entry and replace with “The Air Force rules for access to records, and for contesting and appealing initial agency determinations by the individual concerned are published in Air Force Instruction 33-332, Privacy Act Program, 32 CFR Part 806b, or may be obtained from the system manager.”

* * * * *

F033 AF A

System name:

Information Requests—Freedom of Information Act.

System location:

Air Force installations and headquarters of combatant commands for which Air Force is Executive Agent. Official mailing addresses are published as an appendix to the Air Force's compilation of record systems notices.

Categories of individuals covered by the system:

All persons who have requested records from the Air Force under the provisions of the Freedom of Information Act (FOIA); all persons whose requests for records have been referred to the Air Force by other Federal agencies; and all persons who have submitted appeals to the Secretary of the Air Force under the provisions of the FOIA.

Categories of records in the system:

Name, home address, telephone number, e-mail address, FOIA case numbers assigned to individual cases, and appeals, FOIA requests and appeals, responses to requests, determinations of appeals, correspondence with requesters and with other persons who have contacted the Air Force in connection with requests or appeals other than requesters or other correspondence in connection with requests or appeals.

Authority for maintenance of the system:

10 U.S.C. 8013, Secretary of the Air Force; 5 U.S.C. 552, Public Information; agency rules, opinions, orders, records, and proceedings; and DoD Regulation 5400.07, DoD Freedom of Information Act (FOIA) Program.

Purpose(s):

To process FOIA requests and to assist the Department of the Air Force in carrying out responsibilities under the FOIA.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

The DoD ‘Blanket Routine Uses’ published at the beginning of the Air Force's compilation of systems of records notices apply to this system.

Policies and practices for storing, retrieving, accessing, retaining, and disposing of records in the system:

Storage:

Maintained in hard copy file folders and/or on electronic storage media.

Retrievability:

Retrieved by name or by unique FOIA case number assigned to each request or appeal.

Safeguards:

Records are accessed by person(s) responsible for servicing the record system in performance of their official duties and by authorized personnel who are properly screened and cleared for need-to-know. Records are stored in locked rooms and cabinets. Those in computer storage devices are common access card (CAC) enabled and password protected.

Retention and disposal:

Records relating to requests that resulted in a full release of responsive records are retained in Requester Service Center files for two years following response to the requester.

Records that resulted in a full or partial denial (including “no records” responses) are retained in Requester Service Center files for six years following response to the requester.

Records which an appeal is filed are retained in the Requester Service Center and in General Litigation Division office files for six years following determination of the appeal.

Records which litigation is instituted are retained in accordance with the disposition instructions for the litigation concerned.

Paper records are disposed of by shredding, pulping, macerating, or burning. Computer records are destroyed by deleting, erasing, degaussing, or by overwriting.

System manager(s) and address:

FOIA managers at Air Force installations, bases, units, organizations, and offices. Official mailing addresses are published as an appendix to the Air Force's compilation of record systems notices. The Judge Advocate General, Headquarters United States Air Force, 1420 Air Force Pentagon, Washington, DC 20330-1420.

Notification procedure:

Individuals seeking to determine whether information about themselves is contained in this system should address written inquiries to the appropriate FOIA office. Official mailing addresses are published as an appendix to the Air Force's compilation of record systems notices.

For verification purposes, individual should provide their full name, and any detail which may assist in locating records, and their signature.

In addition, the requester must provide a notarized statement or an unsworn declaration made in accordance with 28 U.S.C. 1746, in the following format:

If executed outside the United States:

‘I declare (or certify, verify, or state) under penalty of perjury under the laws of the United States of America that the foregoing is true and correct. Executed on (date). (Signature)’.

If executed within the United States, its territories, possessions, or commonwealths: ‘I declare (or certify, verify, or state) under penalty of perjury that the foregoing is true and correct. Executed on (date). (Signature)’

Record access procedures:

Individuals seeking access to information about themselves contained in this system should address requests to the General Litigation Division, Air Force Legal Operations Agency, 1501 Wilson Boulevard, 7th Floor, Arlington VA 22209-2403.

For verification purposes, individual should provide their full name, and any details which may assist in locating records, and their signature.

In addition, the requester must provide a notarized statement or an unsworn declaration made in accordance with 28 U.S.C. 1746, in the following format:

If executed outside the United States:

‘I declare (or certify, verify, or state) under penalty of perjury under the laws of the United States of America that the foregoing is true and correct. Executed on (date). (Signature)’

If executed within the United States, its territories, possessions, or commonwealths: ‘I declare (or certify, verify, or state) under penalty of perjury that the foregoing is true and correct. Executed on (date). (Signature)’.”

Contesting record procedures:

The Air Force rules for access to records, and for contesting and appealing initial agency determinations by the individual concerned are published in Air Force Instruction 33-332, Privacy Act Program, 32 CFR Part 806b, or may be obtained from the system manager.

Record source categories:

Those individuals who submit initial requests, the agency records searched in the process of responding to such requests; Air Force personnel assigned to handle such requests; other agencies or entities that have referred requests concerning Department of the Air Force records, or that have consulted with the Department of the Air Force regarding the handling of particular requests; and submitters of records or information that have provided assistance to the Department of the Air Force in making FOIA access determinations.

Exemptions claimed for the system:

During the course of a FOIA action, exempt materials from other systems of records may in turn become part of the case records in this system. To the extent that copies of exempt records from those ‘other’ systems of records are entered into this FOIA case record, Air Force hereby claims the same exemptions for the records from those ‘other’ systems that are entered into this system, as claimed for the original primary systems of records which they are a part.

An exemption rule for this system has been promulgated in accordance with requirements of 5 U.S.C. 553(b)(1), (2), and (3), (c), and (e) and published in 32 CFR part 806b. For additional information contact the system manager.

[FR Doc. 2011-12317 Filed 5-18-11; 8:45 am]

BILLING CODE 5001-06-P